ENVIRONMENTAL PROTECTION AGENCY

[FRL-7246-6]

Agency Information Collection Activities: Proposed Collection; Comment Request

AGENCY: Environmental Protection Agency (EPA).

ACTION: Notice.

SUMMARY: In compliance with the Paperwork Reduction Act (44 U.S.C. 3501 et seq.), this document announces that EPA is planning to submit the following three continuing Information Collection Requests (ICR) to the Office of Management and Budget (OMB). Before submitting the ICRs to OMB for review and approval, EPA is soliciting comments on specific aspects of the information collections as described in the beginning of SUPPLEMENTARY INFORMATION.

DATES: Comments must be submitted on or before October 24, 2002.

ADDRESSES: 1200 Pennsylvania Avenue, NW, Attn: 3802R, Washington, DC 20460. A hard copy of an ICR may be obtained without charge by calling the identified information contact individual for each ICR in Section B of the Supplementary Information.

FOR FURTHER INFORMATION OR A COPY CONTACT: For specific information on the individual ICRs see Section B of the Supplementary Information.

SUPPLEMENTARY INFORMATION:

For All ICRs

An Agency may not conduct or sponsor, and a person is not required to respond to, a collection information unless it displays a currently valid OMB control number. The OMB control numbers for EPA's regulations are displayed in 40 CFR part 9.

The EPA would like to solicit comments to:

(i) Evaluate whether the proposed collection of information is necessary for the proper performance of the functions of the Agency, including whether the information will have practical utility;

(ii) Evaluate the accuracy of the Agency's estimate of the burden of the proposed collection of information;

(iii) Enhance the quality, utility, and clarity of the information to be collected; and

(iv) Minimize the burden of the collection of information on those who are to respond, including through the use of automated collection techniques or other forms of information technology, e.g., permitting electronic submission of responses.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

A. List of ICRs Planned To Be Submitted

In compliance with the Paperwork Reduction Act (44 U.S.C. 3501 et seq.), this notice announces that EPA is planning to submit the following three continuing Information Collection Requests (ICR) to the Office of Management and Budget (OMB):

(1) Monthly Progress Reports, EPA ICR No. 1039.09, OMB Control No. 2030-0005, expires 2/28/03.

(2) Oral and Written Purchase Orders, 1900-8 and 1900-13, EPA ICR No. 1037.06, OMB Control No. 2030-0007, expires 2/28/03.

(3) Contractor Cumulative Claim and Reconciliation, 1900-10, EPA ICR No. 0246.07, OMB Control No. 2030-0016, expires 2/28/03.

B. Contact Individuals for ICRs

(1) Monthly Progress Reports, Frances Smith, phone (202) 564-4368, fax (202) 565-2475, e-mail smith.frances@epa.gov, (OMB Control No. 2030-0005; EPA ICR No. 1039.09) expiring 2/28/03.

(2) Oral and Written Purchase Orders, 1900-8 and 1900-13, Frances Smith, phone (202) 564-4368, fax (202) 565-2475, e-mail smith.frances@epa.gov, (OMB Control No. 2030-0007; EPA ICR No. 1037.06) expiring 2/28/03.

(3) Contractor Cumulative Claim and Reconciliation, 1900-10, Frances Smith, phone (202) 564-4368, fax (202) 565-2475, e-mail smith.frances@epa.gov, (OMB Control No. 2030-0016; EPA ICR No. 0246.07) expiring 2/28/03.

C. Individual ICRs

(1) Monthly Progress Reports, EPA ICR No. 1039.09, OMB Control No. 2030-0005, expires 2/28/03.

Affected Entities: Entities potentially affected by this action are those holding cost reimbursable contracts with EPA.

Abstract: Agency contractors who have cost reimbursable, time and material, labor hour, or indefinite delivery/indefinite quantity fixed rate contracts will report the technical and financial progress of the contract on a monthly basis. EPA will use this information to monitor the contractor's progress under the contract. Responses to the information collection are mandatory for contractors performing under a cost reimbursement contract, and are required to receive monthly reimbursement. Information submitted is protected from public release in accordance with the Agency's confidentiality regulations, 40 CFR 2.201 et seq.

Burden Statement: EPA estimates that the annual hourly burden for this collection will remain the same as reported in the previous information collection because there has been no change in the information being collected and approximately the same number of contracts remain active. As such, it is estimated that each response will take approximately 36.25 hours. EPA anticipates that the total active cost reimbursement contracts will remain approximately 407, times 12 submissions per year to yield about 4,884 annual collections. Each collection is estimated to cost $2,592 based on a variety of contractor personnel performing individual tasks required for information gathering and submission. The anticipated 4,884 annual submissions are estimated to cost $12,656,886 annually. Minimal operation and maintenance costs are expected for photocopying and postage.

(2) Oral and Written Purchase Orders, 1900-8 and 1900-13, EPA ICR NO.1037.06, OMB Control No. 2030-0007, expires 2/28/03.

Affected Entities: Entities potentially affected by this action are those which seek to provide supplies and services to the EPA under simplified acquisition procedures.

Abstract: When EPA has a requirement for supplies or services and the value of same is under the simplified acquisition threshold, the Agency solicits verbal or written quotes from potential vendors. Vendor responses are voluntary and generally consist of item name, unit cost, delivery terms, company name, small business status, address, phone number, and point of contact. The Agency uses the collected information to make award decisions and obtain needed supplies and services. An agency many not conduct or sponsor, and a person is not required to respond to, a collection of information unless it displays a currently valid OMB control number. The OMB control numbers for EPA's regulation are listed in 40 CFR part 9 and 48 CFR Chapter 15.

Burden Statement: Based on historical information collections, the estimated time required to complete each response to an oral or written purchase order is 15 minutes. Vendors must listen to questions asked, consult company price list, and respond to inquiry. Vendors are not required to type, sign, or mail anything. An average salary for vendor/salesperson is estimated to be $16.04 an hour. This is based on the rate used in the previous clearance multiplied by a factor of 3% per year to reflect wage increases since 1996. The total number of responses is derived by doubling the total number of purchase orders issued by the Agency in the preceding 12 month period. The total number of purchase orders issued was doubled to reflect the historical average of receiving at least two responses per oral or written purchase order. Normally, at least three vendors are contacted, but depending upon dollar value, an average of two information collections per award has been estimated. Therefore, the estimated total annual burden is summarized as follows: Total Annual Burden Dollars: $3.90 per response times 37,492 responses = $146,219; Total Annual Burdens Hours: 15 minutes per response times 37,492 responses = 9,373 hours. No capital/start-up costs or operation and maintenance costs are anticipated.

(3) Contractor Cumulative Claim and Reconciliation, 1900-10, EPA ICR No. 0246.07, OMB Control No. 2030-0016, expires 2/28/03.

Affected Entities: Entities potentially affected by this action are those holding cost reimbursable contracts with the Agency.

Abstract: At the completion of a cost reimbursement contract, contractors will report final costs incurred, including direct labor, materials, supplies, equipment, and other direct charges, subcontracting, consultant fees, indirect costs, and fixed fee. Contractors will report this information on EPA Form 1900-10. EPA will use this information to reconcile the contractor's costs. Establishment of the final costs and fixed fee is necessary to close-out the contract. Responses to the information collection are mandatory for those completing work under a cost reimbursement contract, and are required to receive final payment. Information submitted is protected from public release in accordance with the Agency's confidentiality regulation, 40 CFR 2.201 et seq.

Burden Statement: EPA estimates that the annual hourly burden for this collection will remain the same as reported in the previous information collection because there has been no change in the information being collected and approximately the same number of contracts represents the total number of annual contracts that are closed-out. EPA estimates that the annual hourly burden will be 42.9 hours based on the following: Each response will take approximately 40 minutes, and EPA closes-out approximately 65 contracts per year. The annual dollar burden is estimated at $1,346.15 based on a combination of contractor employees providing the information. The total cost of the contractor provided information is estimated to be $20.71 for the 40 minute period. Minimal operation and maintenance costs are expected for photocopying and postage.

Dated: July 31, 2002.
Larry Wyborski,
Acting Manager, Policy and Oversight Service Center.

[FR Doc. 02-18989 Filed 7-25-02; 8:45 am]

BILLING CODE 6560-50-P